DEPARTMENT OF VETERANS AFFAIRS

Annual Pay Ranges for Physicians, Dentists, and Podiatrists of the Veterans Health Administration

AGENCY: Department of Veterans Affairs.

ACTION: Notice.

SUMMARY: VA hereby gives notice of the annual pay ranges, which are the sum of the base pay rate and market pay for VHA physicians, dentists and podiatrists as prescribed by the VA Secretary for Department-wide applicability. These annual pay ranges are intended to enhance the flexibility of the Department to recruit, develop and retain the most highly qualified providers to serve the Nation's Veterans and maintain a standard of excellence in the VA health care system.

DATES: The annual pay ranges are applicable July 30, 2023.

FOR FURTHER INFORMATION CONTACT: Ophelia A. Vicks, Executive Director of Human Capital Policies, Office of the Chief Human Capital Officer (05), Department of Veterans Affairs, 810 Vermont Avenue NW, Washington, DC 20420, 202-461-7765. This is not a toll-free number.

SUPPLEMENTARY INFORMATION: Under 38 U.S.C. 7431(e)(1)(A), not less often than once every 2 years, the Secretary must prescribe for Department-wide applicability the minimum and maximum amounts of annual pay that may be paid to VHA physicians, dentists and podiatrists. Per 38 U.S.C. 7431(e)(1)(B), the Secretary is allowed to prescribe separate minimum and maximum amounts of annual pay for a specialty or assignment. Pursuant to 38 U.S.C. 7431(e)(1)(C), amounts prescribed under subsection 7431(e) shall be published in the Federal Register and shall not take effect until at least 60 days after the date of publication.

In addition, under 38 U.S.C. 7431(e)(4), the total amount of compensation paid to a physician, dentist or podiatrist under title 38 of the United States Code cannot exceed, in any year, the amount of annual compensation (excluding expenses) of the President. For section 7431(e)(4), the total amount of compensation includes base pay, market pay, performance pay, and fee basis earnings, but excludes recruitment, relocation and retention incentives ¹ and awards for performance and superior accomplishments from total compensation calculations.

¹ In accordance with Title IX, 906 of the “Sergeant First Class Heath Robinson Honoring our Promise to Address Comprehensive Toxics (PACT) Act of 2022” (Pub. L. 117-168 dated August 10, 2022), recruitment, relocation, and retention incentives, along with awards for performance and superior accomplishments, shall not be considered in calculating the limitation under 38 U.S.C. 7431(e)(4).

Background

The Department of Veterans Affairs Health Care Personnel Enhancement Act of 2004, Public Law 108-445, was signed by the President on December 3, 2004. The major provisions of the law established a new pay system for VHA physicians and dentists consisting of base pay, market pay and performance pay. These three components create a system of pay that is driven by market indicators and employee performance, while recognizing employee tenure in VHA. While the base pay component is set by statute, market pay is intended to reflect the recruitment and retention needs for the specialty or assignment of a particular physician or dentist at a facility. Further, performance pay is intended to recognize the achievement of specific goals and performance objectives prescribed annually.

On April 8, 2019, the President signed Public Law 116-12, which amended 38 U.S.C. 7431 to include podiatrists within the physician and dentist pay system, authorizing podiatrists to receive base pay, market pay, and performance pay. With this amendment, podiatrists are also subject to the same limitations and requirements as physicians and dentists under section 7431.

VA will be reducing the number of pay tables from 6 to 5 by consolidating pay tables 3 and 4. Pay tables 1, 2 and 3 will cover the clinical specialties, and pay tables 4 and 5 will cover executive assignments. The maximum amount for the newly combined pay table 3 will remain unchanged as described in the 2016 Federal Register publication. However, there have been changes to the minimum and maximum amounts for pay tables 1, 2 and 5.

Discussion

VA identified and utilized salary survey data sources that most closely represent VA comparability in practice setting, employment, environment and hospital/health care system. The Association of American Medical Colleges, Sullivan Cotter and Associates, Medical Group Management Association, Korn Ferry Healthcare National and Executive Report, Mercer Integrated Health Networks and the Survey of Dental Practice published by the American Dental Association were collectively utilized as benchmarks to prescribe annual pay ranges across the scope of assignments/specialties within the Department. While aggregating the data, a preponderance of weight was given to those surveys which most directly resembled the environment of the Department.

VA continued the practice of grouping specialties into consolidated pay ranges when constructing annual pay ranges to accommodate the more than 40 specialties that currently exist in the VA system. This allows VA to use multiple sources that yield high numbers of salary data which help minimize disparities and aberrations that may surface from data involving smaller numbers for comparison and from sample changes year-to-year. By aggregating multiple survey sources into like groupings, greater confidence exists that the average compensation reported is truly representative. Additionally, the aggregation of data provides for a substantial sample size to provide vast pay ranges with maximum flexibility for VHA physicians, dentists and podiatrists.

In developing the annual pay ranges, distinctive principles were factored into the compensation analysis of the data. The first principle is to ensure that the minimum and maximum salary are at a level that accommodate special employment situations, from fellowships and medical research career development awards to Nobel Laureates, high-cost areas and internationally renowned clinicians. The second principle is to provide ranges large enough to accommodate career progression, geographic differences, sub-specialization and other special factors.

Clinical specialties were reviewed against available relevant private sector data. The specialties are grouped into three (formerly four) clinical pay ranges that reflect comparable complexity in salary, recruitment and retention considerations. The Steering Committee recommendations included consolidating former pay tables 3 and 4; designating three clinical pay ranges (pay tables 1, 2 and 3) for the varying clinical specialties; and designating pay tables 4 and 5 for executive assignments. The Steering Committee also recommends adding new and realigning existing specialties to different clinical pay ranges, as well as changes to the minimum and maximum pay ranges.

VHA organizational improvement is focused on making operational improvements by redesigning VHA Central Office (VHACO); revising its governance functions; and creating integrated clinical communities. Additionally, as part of the VHACO organizational improvement and for consistency with the position titles outlined in 38 U.S.C. 7306, VHA is modifying titles for a senior-level physician, dentist and podiatrist leaders assigned to pay table 5 (formerly 6) of the VHA physician, dentist, and podiatrist pay system. The new structure clarifies office roles and streamlines responsibilities to eliminate fragmentation, overlap and duplication. It also allows VHA to be more agile and respond to changes and make decisions more quickly, positioning VHA to better support the Veteran Integrated Services Networks and facilities directly serving Veterans.

² Tier 1 and Tier 2 Minimums for Pay Tables 1 and 2 reflect the statutory minimum rate of pay for this pay system in accordance with Schedule 3 of the President's Executive Order 14090, Adjustments of Certain Rates of Pay, dated December 23, 2022.

³ Tier 1 Minimum for Pay Table 3 reflects the statutory minimum rate of pay for this pay system in accordance with Schedule 3 of the President's Executive Order 14090, Adjustments of Certain Rates of Pay, dated December 23, 2022.

Denis McDonough, Secretary of Veterans Affairs, approved this document on May 19, 2023, and authorized the undersigned to sign and submit the document to the Office of the Federal Register for publication electronically as an official document of the Department of Veterans Affairs.

Tier level | Minimum | Maximum
Pay Table 1—Clinical Specialty
Tier 1 | ² $115,587 | $243,000
Tier 2 | 115,587 | 260,000
Tier 3 | 120,000 | 280,340
Pay Table 1—Covered Clinical Specialties
Endocrinology; Family Medicine; General Practice—Dentistry; Internal Medicine; Palliative Care; Podiatry (General); Preventive Medicine; Primary Care; Prosthodontics; Rheumatology; All other specialties or assignments.
Pay Table 2—Clinical Specialty
Tier 1 | $115,587 | $300,000
Tier 2 | 115,587 | 320,000
Tier 3 | 130,000 | 336,000
Pay Table 2—Covered Clinical Specialties
Allergy and Immunology; Endodontics; Geriatrics; Health Informatics; Hospitalist; Infectious Diseases; Neurology; Nocturnist; Periodontics; Physical Medicine and Rehabilitation/Spinal Cord Injury; Podiatry (surgery—forefoot, rearfoot/ankle, advanced rearfoot/ankle); Psychiatry; Sleep Medicine.
Pay Table 3—Clinical Specialty
Tier 1 | ³ $115,587 | $400,000
Tier 2 | 120,000 | 400,000
Pay Table 3—Covered Clinical Specialties
Anatomic Pathology; Anesthesiology; Cardiology (invasive/non-interventional); Cardiology (non-invasive); Cardio-Thoracic Surgery; Critical Care; Dermatology; Dermatology Mohs (a micrographic surgery)- -; Emergency Medicine; Gastroenterology; General Surgery; Gynecology; Hematology—Oncology; Interventional Cardiology; Interventional Radiology; Nephrology; Neurosurgery; Nuclear Medicine; Ophthalmology; Oral Surgery; Orthopedic Surgery; Otolaryngology; Pain Management (interventional and non-operating room anesthesiology); Pain Management (physical medicine and rehabilitation); Pathology; Plastic Surgery; Pulmonary; Radiology (diagnostic); Radiation Oncology; Urology; Vascular Surgery.
Pay Table 4—Chief of Staff and Network Chief Medical Officers
Tier 1 | $150,000 | $400,000
Tier 2 | 147,000 | 375,000
Tier 3 | 145,000 | 350,000
Tier 4 | 140,000 | 325,000
Pay Table 4—Covered Assignments
VHA Chiefs of Staff and Network Chief Medical Officers Tier assignments for Chiefs of Staff are based on published facility complexity level. Tier 1—Network Chief Medical Officer and Chief of Staff—Complexity Levels 1a and 1b. Tier 2—Chief of Staff—Complexity Levels 1c and 2. Tier 3—Chief of Staff—Complexity Level 3 and facilities with no designation level. Tier 4—Deputy Network Chief Medical Officer and Deputy Chief of Staff.
Pay Table 5—Executive Assignments
Tier 1 | $145,000 | $310,000
Tier 2 | 145,000 | 295,000
Tier 3 | 145,000 | 285,000
Pay Table 5—Covered Assignments
The Deputy Under Secretary for Health; Assistant Under Secretaries for Health; Associate Deputy Under Secretary for Health; Assistant Deputy Under Secretary for Health; Chief Officers (VHACO); Network Directors; Medical Center Directors; Executive Directors (VHACO); Deputy to the Assistant Under Secretaries for Health; Chief Consultants (VHACO); Deputy Chief Officers (VHACO); Deputy Chief Consultants (VHA CO); Deputy to the Executive Directors (VHACO); and VHACO physicians, dentists or podiatrists (non-senior executive service equivalents) with an administrative/executive role for more than 50% of their full-time equivalent employees.

Signing Authority

Luvenia Potts,
Regulation Development Coordinator, Office of Regulation Policy & Management, Office of General Counsel, Department of Veterans Affairs.

[FR Doc. 2023-11306 Filed 5-25-23; 8:45 am]

BILLING CODE 8320-01-P